DEPARTMENT OF TRANSPORTATION

National Highway Traffic Safety Administration

Announcing the Fourteenth Public Meeting of the Crash Injury Research and Engineering Network (CIREN)

AGENCY: National Highway Traffic Safety Administration (NHTSA), DOT.

ACTION: Meeting announcement.

SUMMARY: This notice announces the Fourteenth Public Meeting of members of the Crash Injury Research and Engineering Network. CIREN is a collaborative effort to conduct research on crashes and injuries at eight Level 1 Trauma Centers linked by a computer network. Researchers can review data and share expertise, which could lead to a better understanding of crash injury mechanisms and the design of safer vehicles.

Date and Time: The meeting is scheduled from 8:30 a.m. to 1 p.m. on Tuesday, March 28, 2006.

ADDRESSES: The meeting will be held in Room 6200-04 of the U.S. Department of Transportation Building, which is located at 400 Seventh Street, SW., Washington, DC.

To Register For this Event: If you do not have a DOT identification card, you must go through our security checkpoint. E-mail Mark.Scarboro@dot.gov Phone: 202-366-5078 or Catherine.McCullough@dot.gov Phone: 202-366-4734. Please provide your full name as it appears on your photo identification, your affiliation, e-mail, and phone number. Registration is strongly recommended. Please bring a photo identification card for verification. You may not be admitted without one.

SUPPLEMENTARY INFORMATION: The CIREN System has been established, and crash cases have been entered into the database by each Center. CIREN cases may be viewed from the NHTSA/CIREN Web site at: http://www-nrd.nhtsa.dot.gov/departments/nrd-50/ciren/CIREN.html. NHTSA has held three Annual Conferences where CIREN research results were presented. Further information about the three previous CIREN conferences is also available through the NHTSA Web site. NHTSA held the first public meeting on May 5, 2000, with a topic of lower extremity injuries in motor vehicle crashes; the second public meeting on July 21, 2000, with a topic of side impact crashes; the third public meeting on November 30, 2000, with a topic of thoracic injuries in crashes; the fourth public meeting on March 16, 2001, with a topic of offset frontal collisions; the fifth public meeting on June 21, 2001, on CIREN outreach efforts; the sixth public meeting (held in Ann Arbor, Michigan), with a topic of injuries involving sport utility vehicles; the seventh public meeting on December 6, 2001, with a topic of age related injuries (elderly and children); the eighth public meeting on April 25, 2002, with a topic of head and traumatic brain injuries; the ninth public meeting on August 22, 2002 (held at Harborview Injury Prevention and Research Center in Seattle, Washington), with presentations highlighting the various research specialties of the Centers; the tenth public meeting on December 5, 2002, with a topic of occult injuries; the eleventh public meeting on April 3, 2003, with papers on the injuries sustained in crashes where vehicles are mismatched in terms of size or weight; the twelfth public meeting on December 5, 2003 (held at the University of Alabama at Birmingham), with presentations on various research specialties of the Centers; and the thirteenth public meeting on November 4, 2004 (held at the University of Maryland/National Study Center), with presentations on various research specialties. Presentations from these meetings are available through the NHTSA Web site.

Public meetings were suspended in 2005 due to the recompetition of the funding for the CIREN cooperative agreements. The recompetition was announced in December 2004, and awards were made in June 2005.

NHTSA plans to continue holding CIREN meetings on a regular basis to disseminate CIREN information to interested parties. This is the fourteenth such meeting. The CIREN Centers will be presenting papers on a variety of research topics.

Should it be necessary to cancel the meeting due to inclement weather or to any other emergencies, a decision to cancel will be made as soon as possible and posted immediately on NHTSA's Web site http://www.nhtsa.dot.gov/nhtsa/announce/meetings/. If you do not have access to the Web site, you may call or e-mail the contacts listed in this announcement and leave your telephone number or e-mail address. You will be contacted only if the meeting is postponed or canceled.

Issued on: February 13, 2006.
Joseph N. Kanianthra,
Associate Administrator for Vehicle Safety Research.

[FR Doc. E6-2355 Filed 2-16-06; 8:45 am]

BILLING CODE 4910-59-P